DEPARTMENT OF AGRICULTURE

Foreign Agricultural Service

Trade Adjustment Assistance for Farmers

AGENCY: Foreign Agricultural Service, USDA.

ACTION: Notice.

The Administrator, Foreign Agricultural Service (FAS), will begin accepting Trade Adjustment Assistance for Farmers petitions for fiscal year 2007 starting August 15, 2006. Petitioners can file their form FAS-930 or other acceptable petitions to FAS from August 15, 2006, through January 31, 2007.

Petitioners should file their petition in accordance with 7 CFR 1580.201. The petition must be received by the TAA office by close of business January 31, 2007. The TAA office address is Foreign Agricultural Service, ITP/IPPD, MS-1021, Washington, DC 20250-1021, or facsimile number is (202) 720-0876, or by e-mail to trade.adjustment@fas.usda.gov. Use of fax or email is recommended.

SUPPLEMENTARY INFORMATION: The Trade Act of 2002 (Pub. L. 107-210) amended the Trade Act of 1974 (19 U.S.C. 2551, et seq.) to add a new chapter 6, which established a program of trade adjustment assistance for farmers, providing both technical assistance and cash benefits to producers and qualified fishermen. The statute authorizes an appropriation of not more than $90 million for each fiscal year 2003 through 2007 to carry out the program.

Under this program, a group of agricultural commodity producers and qualified fishermen may petition the Administrator for trade adjustment assistance. Petitions will be reviewed for completeness and timeliness. Once the petition is completed in accordance with 7 CFR 1580.201, the acceptance of the petition will be published in the Federal Register. Once a petition has been accepted, a determination will be made to verify that the most recent marketing year price for the commodity produced by the group is less than 80 percent of the average of the national average prices for the 5 marketing years preceding the most recent marketing year and that increases in imports of a like or directly competitive product contributed importantly to the decline in price. If these conditions are met, the Administrator will certify the group as eligible for trade adjustment assistance.

Once a petition has been certified, eligible producers and qualified fishermen will have 90 days to contact the Farm Service Agency to apply for assistance.

For Further Information Or Assistance In Completing Form Fas-930, Contact: Jean-Louis Pajot, Coordinator, Trade Adjustment Assistance for Farmers, FAS, USDA, (202) 720-2916, email: trade.adjustment@fas.usda.gov. Additional program information can be obtained at the TAA website. The URL is http://www.fas.usda.gov/itp/taa/taaindex.htm.

W. Kirk Miller,
Acting Administrator, Foreign Agricultural Service.

[FR Doc. E6-12504 Filed 8-2-06; 8:45 am]

BILLING CODE 3410-10-P